GENERAL SERVICES ADMINISTRATION

[Notice-ME-2016-01; Docket No: 2016-0002; Sequence No. 10]

Notice of Fee Amounts To Be Set by the General Services Administration's Request for the Registration and Annual Renewal of .gov Second-Level Domains

AGENCY: Office of Government-wide Policy (OGP); Office of Information, Integrity, and Access; General Services Administration (GSA).

ACTION: Notice.

SUMMARY: GSA is proposing to increase the yearly fee assessed to entities that utilize the federal .gov top-level domain. The current fee of $125 per annum has not been raised since the publication of the Federal Management Regulation final rule, Internet GOV Domain on March 28, 2003. The fee increase will compensate GSA for the increased operational costs of maintaining the .gov top-level domain (TLD). The fee will be the same for new registrations and for annual renewals. This document establishes the fee for all entities that use the .gov TLD at $400 per annum, effective January 1, 2017.

DATES: Effective: May 23, 2016.

FOR FURTHER INFORMATION CONTACT: Contact Mr. Lee Ellis, Office of Government-wide Policy, at 202-501-0282, or via email to lee.ellis@gsa.gov for clarification of content. For information pertaining to status or publication schedules, contact the Regulatory Secretariat Division at 202-501-4755. Please cite Notice ME-2016-01.

SUPPLEMENTARY INFORMATION:

Background

The .gov domain was first established in 1985 under the Internet Engineering Task Force of the Internet Society, RFC 920, 1480, 1591, 1811, and 2146 as a generic top-level domain (TLD) for government entities in the United States. In 2003, GSA published the Federal Management Regulation final rule, Internet GOV Domain (41 CFR part 102-173), at 68 FR 15089 (March 28, 2003), which codified existing guidance and best practice methods for domain management, then stratified across governmental and non-governmental bodies, and expanded the .gov domain to permit inclusion of state, local, and tribal governments (SLTTs).

GSA is designated as the TLD owner and Domain Policy Authority for governmental entities in the United States, including Federal, state, local and tribal governments. OGP oversees the enabling rule (41 CFR part 102-173, Internet GOV Domain—hereafter “Final Rule”) and administers the .gov domain registration and renewal process in accordance with the original rule and the .gov Domain Registration and Management Guidance. The rule and the guidance govern registrations and renewals for second-level domains under the top level .gov domain.

When GSA published the Final Rule in 2003, it initiated the assessment of fees for the registration and annual renewal .gov domains by Federal Government agencies, the Legislative Branch, the Judicial Branch, and SLTTs. At the time, GSA stated in the Federal Register that the Final Rule “merely establishes a ceiling for the charges that GSA may assess in the future if circumstances require it. These charges, if established, will be based on the costs of operations and market rates.”

Since publication of the Final Rule, all bodies seeking to register and use a .gov domain are assessed a $125 per annum fee for registration and for annual renewals. The fee has remained unchanged since 2003, even as new laws, enhanced security protocols, protections and controls, and increased operational costs have substantially raised the overall cost for GSA to manage the .gov domain.

OGP solicited advice and feedback from stakeholders representing all levels of government, internationally, as well as the private sector to better inform decision-making about whether a per annum fee increase should occur. The research details also yielded insight as to the amount the increase would be considered reasonable.

41 CFR 102-173.45 sets the fee for new .gov domain registrations at no more than $1,000 per year, and the charge for annual .gov domain renewals at no more than $500 per year. The current fee of $125 per annum has been in effect since publication of the Final Rule. To compensate for increased operational costs and security requirements of maintaining the .gov domain, GSA will raise the fee for both new registrations and annual renewals to $400 per annum. This fee will be the same for all entities who apply to initially register, or renew, an existing registration of a .gov second-level domain name and are approved, per 41 CFR 102-173.

Dated: April 14, 2016.
Troy Cribb,
Associate Administrator, Office of Government-wide Policy, General Services Administration.

[FR Doc. 2016-09294 Filed 4-20-16; 8:45 am]

BILLING CODE 6820-14-P